DEPARTMENT OF ENERGY

Federal Energy Regulatory Commission

[Project No. 5066-001]

Charles L. Woodman; Kinky Creek Operating Company; Notice of Transfer of Exemption

1. By letter filed March 30, 2015, Charles L. Woodman informed the Commission that the exemption from licensing for the Darwin Ranch Project, FERC No. 5066, originally issued December 1, 1981,¹ has been transferred to the Kinky Creek Operating Company. The project is located on Kinky Creek, a tributary to the Gros Ventre River in Teton County, Wyoming. The transfer of an exemption does not require Commission approval.

¹ 17 FERC ¶ 62,322, Order Granting Exemption from Licensing of a Small Hydroelectric Project of 5 Megawatts or Less (1981).

2. Kinky Creek Operating Company is now the exemptee of the Darwin Ranch Project, FERC No. 5066. All correspondence should be forwarded to: Ms. Kathy Bole, Kinky Creek Operating Company, 19 7th Avenue, San Francisco, CA 94118.

Dated: April 6, 2015.
Kimberly D. Bose,
Secretary.

[FR Doc. 2015-08688 Filed 4-15-15; 8:45 am]

BILLING CODE 6717-01-P